DEPARTMENT OF EDUCATION

Emergency Response and Crisis Management Grant Program

AGENCY: Office of Safe and Drug-Free Schools, Department of Education.

ACTION: Notice of proposed priorities and application requirements.

SUMMARY: The Assistant Deputy Secretary for Safe and Drug-Free Schools proposes two priorities and two application requirements under the Emergency Response and Crisis Management (ERCM) Grant program. We may use one or more of these priorities and application requirements for competitions in Fiscal Year (FY) 2006 and later years. We also may use the priority and application requirements developed in FY 2005, and published in the Federal Register on June 21, 2005 (70 FR 35652), for competitions in FY 2006 and later years. We take this action to focus Federal financial assistance on supporting grants to local educational agencies (LEAs) that are at high risk for crisis situations, as well as those that have not yet received funding under this program. This action is also intended to modify an application requirement the Department established in FY 2005 for LEAs to support the implementation of the National Incident Management System (NIMS) and to propose an additional application requirement for LEAs to develop written plans to address outbreaks of infectious diseases.

DATES: We must receive your comments on or before March 31, 2006.

ADDRESSES: Address all comments about the proposed priorities and application requirements to Sara Strizzi, U.S. Department of Education, 400 Maryland Avenue, SW., room 3E320, Washington, DC 20202-6450. If you prefer to send your comments through the Internet, use the following address: sara.strizzi@ed.gov.

FOR FURTHER INFORMATION CONTACT: Sara Strizzi. Telephone: (303) 346-0924 or via Internet: sara.strizzi@ed.gov.

If you use a telecommunications device for the deaf (TDD), you may call the Federal Relay Service (FRS) at 1-888-877-8339.

Individuals with disabilities may obtain this document in an alternative format (e.g., Braille, large print, audiotape, or computer diskette) on request to the contact person listed under FOR FURTHER INFORMATION CONTACT.

SUPPLEMENTARY INFORMATION:

Invitation To Comment

We invite you to submit comments regarding the proposed priorities and application requirements. To ensure that your comments have maximum effect in developing the notice of final priorities and application requirements, we urge you to identify clearly the specific proposed priority or application requirement that each comment addresses.

We invite you to assist us in complying with the specific requirements of Executive Order 12866 and its overall requirement of reducing regulatory burden that might result from the proposed priorities and application requirements. Please let us know of any further opportunities we should take to reduce potential costs or increase potential benefits while preserving the effective and efficient administration of the program.

During and after the comment period, you may inspect all public comments about the proposed priorities and application requirements in room 3E320, 400 Maryland Avenue, SW., Washington, DC, between the hours of 8:30 a.m. and 4 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for the proposed priorities and application requirements. If you want to schedule an appointment for this type of aid, please contact the person listed under FOR FURTHER INFORMATION CONTACT.

Background: The events of September 11, 2001, and more recently, Hurricanes Katrina and Rita, reinforce the need for schools and communities to plan for traditional crises and emergencies, as well as possible terrorist attacks or other catastrophic events. We propose additional priorities for the ERCM Grant program under the Safe and Drug-Free Schools and Communities National Programs to target assistance to high-threat areas and LEAs that have not yet received funding under this program. We also propose (1) to modify the application requirement that we established in FY 2005 for LEAs to support the implementation of NIMS at the local level and (2) to establish a new application requirement for LEAs to develop a plan to mitigate the effects of infectious diseases.

We will announce the final priorities and application requirements in a notice in the Federal Register. We will determine the final priorities and application requirements after considering responses to this notice and other information available to the Department. This notice does not preclude us from proposing or using additional priorities or application requirements, subject to meeting applicable rulemaking requirements.

Note: This notice does not solicit applications. In any year in which we choose to use the proposed priorities and application requirements, we invite applications through a notice in the Federal Register.

Priorities

Proposed Priority 1—Competitive Preference Priority for LEAs That Have Not Previously Received a Grant Under the ERCM Program and Are Located in an Urban Areas Security Initiative Jurisdiction

Background

In FY 2003, the Department of Homeland Security established the Urban Areas Security Initiative (UASI) program to focus Federal preparedness resources on the unique planning, equipment, training, and exercise needs of high-threat, high-density urban areas. The intent of the UASI program is to create a sustainable national model program that will enhance security and overall preparedness in order to prevent, respond to, and recover from acts of terrorism. Jurisdictions included in the UASI program are determined by a formula using a combination of current threat estimates, critical assets within the specific urban area, and population density.

The Governor of each State has designated a State Administrative Agency (SAA) as the entity responsible for applying for, and administering, funds under the Department of Homeland Security Grant Program (which includes the UASI program). The SAA is also responsible for defining the geographic borders for jurisdictions included in the UASI program. Jurisdictions included in the UASI program for FY 2006 are included in the following chart. Additional guidance on jurisdiction definitions can be found at: http://www.ojp.usdoj.gov/odp/docs/info200.pdf.

State | Candidate urban area | Geographic area captured in the data count | Previously designated urban areas included
AZ | Phoenix Area | Chandler, Gilbert, Glendale, Mesa, Peoria, Phoenix, Scottsdale, Tempe, and a 10-mile buffer extending from the border of the combined area | Phoenix, AZ
CA | Anaheim/Santa Ana Area | Anaheim, Costa Mesa, Garden Grove, Fullerton, Huntington Beach, Irvine, Orange, Santa Ana, and a 10-mile buffer extending from the border of the combined area | Anaheim, CA; Santa Ana, CA
| Bay Area | Berkeley, Daly City, Fremont, Hayward, Oakland, Palo Alto, Richmond, San Francisco, San Jose, Santa Clara, Sunnyvale, Vallejo, and a 10-mile buffer extending from the border of the combined area | San Francisco, CA; San Jose, CA; Oakland, CA
| Los Angeles/Long Beach Area | Burbank, Glendale, Inglewood, Long Beach, Los Angeles, Pasadena, Santa Clarita, Santa Monica, Torrance, Simi Valley, Thousand Oaks, and a 10-mile buffer extending from the border of the combined area | Los Angeles, CA; Long Beach, CA
| Sacramento Area | Elk Grove, Sacramento, and a 10-mile buffer extending from the border of the combined area | Sacramento, CA
| San Diego Area | Chula Vista, Escondido, San Diego, and a 10-mile buffer extending from the border of the combined area | San Diego, CA
CO | Denver Area | Arvada, Aurora, Denver, Lakewood, Westminster, Thornton, and a 10-mile buffer extending from the border of the combined area | Denver, CO
DC | National Capital Region | National Capital Region and a 10-mile buffer extending from the border of the combined area | National Capital Region, DC
FL | Fort Lauderdale Area | Fort Lauderdale, Hollywood, Miami Gardens, Miramar, Pembroke Pines, and a 10-mile buffer extending from the border of the combined area | N/A
| Jacksonville Area | Jacksonville and a 10-mile buffer extending from the city border | Jacksonville, FL
| Miami Area | Hialeah, Miami, and a 10-mile buffer extending from the border of the combined area | Miami, FL
| Orlando Area | Orlando and a 10-mile buffer extending from the city border | Orlando, FL
| Tampa Area | Clearwater, St. Petersburg, Tampa, and a 10-mile buffer extending from the border of the combined area | Tampa, FL
GA | Atlanta Area | Atlanta and a 10-mile buffer extending from the city border | Atlanta, GA
HI | Honolulu Area | Honolulu and a 10-mile buffer extending from the city border | Honolulu, HI
IL | Chicago Area | Chicago and a 10-mile buffer extending from the city border | Chicago, IL
IN | Indianapolis Area | Indianapolis and a 10-mile buffer extending from the city border | Indianapolis, IN
KY | Louisville Area | Louisville and a 10-mile buffer extending from the city border | Louisville, KY
LA | Baton Rouge Area | Baton Rouge and a 10-mile buffer extending from the city border | Baton Rouge, LA
| New Orleans Area | New Orleans and a 10-mile buffer extending from the city border | New Orleans, LA
MA | Boston Area | Boston, Cambridge, and a 10-mile buffer extending from the border of the combined area | Boston, MA
MD | Baltimore Area | Baltimore and a 10-mile buffer extending from the city border | Baltimore, MD
MI | Detroit Area | Detroit, Sterling Heights, Warren, and a 10-mile buffer extending from the border of the combined area | Detroit, MI
MN | Twin Cities Area | Minneapolis, St. Paul, and a 10-mile buffer extending from the border of the combined entity | Minneapolis, MN; St. Paul, MN
MO | Kansas City Area | Independence, Kansas City (KS), Kansas City (MO), Olathe, Overland Park, and a 10-mile buffer extending from the border of the combined area | Kansas City, MO
| St. Louis Area | St. Louis and a 10-mile buffer extending from the city border | St. Louis, MO
NC | Charlotte Area | Charlotte and a 10-mile buffer extending from the city border | Charlotte, NC
NE | Omaha Area | Omaha and a 10-mile buffer extending from the city border | Omaha, NE
NJ | Jersey City/Newark Area | Elizabeth, Jersey City, Newark, and a 10-mile buffer extending from the border of the combined area | Jersey City, NJ; Newark, NJ
NV | Las Vegas Area | Las Vegas, North Las Vegas, and a 10-mile buffer extending from the border of the combined entity | Las Vegas, NV
NY | Buffalo Area | Buffalo and a 10-mile buffer extending from the city border | Buffalo, NY
| New York City Area | New York City, Yonkers, and a 10-mile buffer extending from the border of the combined area | New York, NY
OH | Cincinnati Area | Cincinnati and a 10-mile buffer extending from the city border | Cincinnati, OH
| Cleveland Area | Cleveland and a 10-mile buffer extending from the city border | Cleveland, OH
| Columbus Area | Columbus and a 10-mile buffer extending from the city border | Columbus, OH
| Toledo Area | Oregon, Toledo, and a 10-mile buffer extending from the border of the combined area | Toledo, OH
OK | Oklahoma City Area | Norman, Oklahoma City, and a 10-mile buffer extending from the border of the combined area | Oklahoma City, OK
OR | Portland Area | Portland, Vancouver, and a 10-mile buffer extending from the border of the combined area | Portland, OR
PA | Philadelphia Area | Philadelphia and a 10-mile buffer extending from the city border | Philadelphia, PA
| Pittsburgh Area | Pittsburgh and a 10-mile buffer extending from the city border | Pittsburgh, PA
TN | Memphis Area | Memphis and a 10-mile buffer extending from the city border | Memphis, TN
TX | Dallas/Fort Worth/Arlington Area | Arlington, Carrollton, Dallas, Fort Worth, Garland, Grand Prairie, Irving, Mesquite, Plano, and a 10-mile buffer extending from the border of the combined area | Dallas, TX; Fort Worth, TX; Arlington, TX
| Houston Area | Houston, Pasadena, and a 10-mile buffer extending from the border of the combined entity | Houston, TX
| San Antonio Area | San Antonio and a 10-mile buffer extending from the city border | San Antonio, TX
WA | Seattle Area | Bellevue, Seattle, and a 10-mile buffer extending from the border of the combined area | Seattle, WA
WI | Milwaukee Area | Milwaukee and a 10-mile buffer extending from the city border | Milwaukee, WI

Ensuring that LEAs are adequately prepared for multiple hazards is a significant national concern. LEAs located in vulnerable, high-density areas have unique crisis planning needs. While many LEAs in UASI jurisdictions have received funding under this program in prior years, there are a number of LEAs located in UASI jurisdictions that have not received the resources needed to improve and enhance their emergency response plans. In order to help meet the needs of these LEAs, we propose a competitive preference priority for LEAs that have not previously received a grant under this program and are located within UASI jurisdictions.

Priority: Under this priority, we give a competitive preference to applications from local educational agencies (LEAs) that (1) have not yet received a grant under this program and (2) are located in whole or in part within Urban Areas Security Initiative (UASI) jurisdictions, as determined by the U.S. Department of Homeland Security (DHS). An applicant must meet both of these criteria in order to receive the competitive preference. Under a consortium application, all members of the LEA consortium need to meet both criteria to be eligible for the preference.

Because DHS' determination of UASI jurisdictions may change from year to year, applicants under this priority must refer to the most recent list of UASI jurisdictions published by DHS when submitting their applications. In any notice inviting applications using this priority, the Department will provide applicants with information necessary to access the most recent DHS list of UASI jurisdictions.

Proposed Priority 2—Competitive Preference Priority for Applicants That Have Not Previously Received a Grant Under The ERCM Program

Background

Ensuring that schools are prepared to address crisis situations that may arise from multiple hazards, including man-made and natural, is an issue of national importance. Since FY 2003, 336 LEAs have received funding under the ERCM grant program to improve and enhance their emergency response plans. However, this represents a small percentage of the total number of LEAs within the United States. To address the crisis planning needs of LEAs that have not previously received funding under this program, we propose a competitive preference priority for applicants that have not yet received a grant under this program.

By awarding previously unfunded LEAs a competitive preference, we hope to ensure that ERCM grant funds reach greater numbers of schools and students whose crisis planning needs have not previously been addressed.

Priority: Under this priority, we give competitive preference to applications from local educational agencies (LEAs) that have not previously received a grant under this program. Applicants that have received funding under this program directly, or as the lead agency or as a partner in a consortium application under this program will not receive competitive preference under this priority.

Application Requirements

We propose (1) to modify the application requirement that we established in FY 2005 for LEAs to support the implementation of NIMS at the local level and (2) to establish a new application requirement for LEAs to develop a plan to mitigate the effects of infectious diseases.

1. Implementation of the National Incident Management System

Background: In accordance with Homeland Security Presidential Directive/HSPD-5, the NIMS provides a consistent approach for Federal, State, and local governments to work effectively and efficiently together to prepare for, prevent, respond to, and recover from domestic incidents, regardless of cause, size, or complexity.

Implementation of the NIMS is a dynamic process that will continue to evolve over time. In order to receive Federal preparedness funding, LEAs must cooperate with the efforts of their communities to meet the minimum NIMS requirements established for each fiscal year. We established an application requirement for LEAs to implement the NIMS in FY 2005. Because of the dynamic nature of the NIMS, we believe certain changes to that requirement are necessary.

Requirement: Applicants must agree to implement their grant in a manner consistent with the implementation of the NIMS in their communities. Applicants must include in their applications an assurance that they have met, or will complete, all current NIMS requirements by the end of the grant period.

Because DHS' determination of NIMS requirements may change from year to year, applicants must refer to the most recent list of NIMS requirements published by DHS when submitting their applications. In any notice inviting applications, the Department will provide applicants with information necessary to access the most recent DHS list of NIMS requirements.

Note: An LEA's NIMS compliance must be achieved in close coordination with the local government and with recognition of the first responder capabilities held by the LEA and the local government. As LEAs are not traditional response organizations, first responder services will typically be provided to LEAs by local fire and rescue departments, emergency medical service providers, and law enforcement agencies. This traditional relationship must be acknowledged in achieving NIMS compliance in an integrated NIMS compliance plan for the local government and the LEA. LEA participation in the NIMS preparedness program of the local government is essential in ensuring that first responder services are delivered to schools in a timely and effective manner. Additional information about NIMS implementation and requirements is available at http://www.fema.gov/nims.

2. Infectious Disease Plan

Background: Infectious diseases pose a significant threat for the school environment. In addition to common infectious diseases, such as stomach viruses, seasonal influenza, infestation with lice/scabies, and viral meningitis, health professionals from the Department of Health and Human Services have warned of a new threat attributed to Avian Influenza A (H5N1). The H5N1 virus poses a risk for worldwide infection. In addition to causing widespread illness, an especially severe influenza pandemic could result in widespread school closings, absenteeism, and disruptions to the learning environment in general. Whether or not a pandemic strikes, seasonal influenza and other infectious diseases continue to pose a concern with respect to the health of students as well as the optimal functioning of schools. Although it may be difficult to prevent a widespread pandemic or other infectious disease outbreak, the effects can be mitigated through proper prevention and planning strategies.

Requirement: To be considered for a grant award, applicants must agree to develop a written plan designed to prepare the LEA for a possible infectious disease outbreak, such as pandemic influenza. Plans must address the four phases of crisis planning (Mitigation/Prevention, Preparedness, Response, and Recovery) and include a plan for disease surveillance (systematic collection and analysis of data which lead to action being taken to prevent and control a disease), school closure decision making, business continuity (processes and procedures established to ensure that essential functions can continue during and after a disaster), and continuation of educational services.

Executive Order 12866

This notice of proposed priorities and application requirements has been reviewed in accordance with Executive Order 12866. Under the terms of the order, we have assessed the potential costs and benefits of this regulatory action.

The potential costs associated with the notice of proposed priorities and application requirements are those resulting from statutory requirements and those we have determined as necessary for administering this program effectively and efficiently.

In assessing the potential costs and benefits—both quantitative and qualitative—of this notice of proposed priorities and application requirements, we have determined that the benefits of the proposed priorities and application requirements justify the costs.

We have also determined that this regulatory action does not unduly interfere with State, local, and tribal governments in the exercise of their governmental functions.

Summary of Potential Costs and Benefits

The potential costs associated with the proposed priorities and application requirements are minimal while the benefits are significant.

Grantees may anticipate costs in achieving NIMS compliance. Costs may also be incurred in the development of a written infectious disease plan. However, these costs may be included in the grant budget and, therefore, will have little financial impact on the applicant.

The benefit of the proposed priorities and application requirements is that grantees that develop a comprehensive emergency response and crisis management plan that includes training and that is implemented in coordination with community partners may mitigate the financial and human impact of a crisis in their district.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area, at (202) 512-1530.

Note: The official version of this document is the document published in the Federal Register. Free Internet access to the official edition of the Federal Register and the Code of Federal Regulations is available on GPO Access at: http://www.gpoaccess.gov/nara/index.html.

(Catalog of Federal Domestic Assistance Number 84.184E—Emergency Response and Crisis Management Grant program)

Program Authority: 20 U.S.C. 7131.

Dated: February 23, 2006.
Deborah A. Price,
Assistant Deputy Secretary for Safe and Drug-Free Schools.

[FR Doc. E6-2843 Filed 2-28-06; 8:45 am]

BILLING CODE 4000-01-P